DEPARTMENT OF ENERGY

Amendment to the Record of Decision for the Department of Energy's Final Programmatic Environmental Impact Statement for Long-Term Management and Use of Depleted Uranium Hexaflouride

AGENCY: Department of Energy.

ACTION: Amendment to Record of Decision.

SUMMARY: Pursuant to 10 CFR 1021.315, the Department of Energy (DOE) is amending the Record of Decision (ROD) for its Final Programmatic Environmental Impact Statement for Alternative Strategies for the Long-Term Management and Use of Depleted Uranium Hexaflouride (DOE/EIS-0269) (DUF6 PEIS) issued in August, 1999 (64 FR 43358; August 10, 1999). The DOE has now decided to transfer up to 1,700 of the approximately 4,700 cylinders containing DUF6 from the East Tennessee Technology Park (ETTP) in Oak Ridge, Tennessee, to its storage facilities at DOE's enrichment facility at Portsmouth, Ohio, between 2003 and 2005.

The August 1999 ROD was based on the analysis in the DUF6 PEIS, and announced that DOE anticipated shipment of approximately 4,700 cylinders containing DUF6 from ETTP to a conversion facility. The DOE did not identify the specific location for shipment of ETTP cylinders at that time, but intended to leave that decision until it had concluded site-specific National Environmental Policy Act (NEPA) review. However, on August 2, 2002, while site-specific review was underway, the President signed the 2002 Supplemental Appropriations Act for Further Recovery From and Response To Terrorist Attacks on the United States (Pub. L. 107-206). In pertinent part, this law required DOE to award a contract within 30 days of enactment for the design, construction, and operation of a DUF6 conversion plant at each of the DOE sites at Paducah, Kentucky, and Portsmouth, Ohio. In response to Public Law 107-206, on August 29, 2002, DOE awarded a contract to Uranium Disposition Services, LLC (UDS). Now that a destination has been identified for the DUF6 cylinders, DOE is amending its August 1999 ROD to ship up to 1,700 DUF6 cylinders at ETTP to Portsmouth beginning in 2003 through 2005.

Pursuant to 10 CFR 1021.314c, DOE prepared a Supplement Analysis (SA) to discuss the circumstances that are pertinent to deciding whether to prepare a new Supplemental EIS. DOE determined that no further NEPA documentation is required. DOE intends to transport the ETTP cylinders and continue its site-specific NEPA reviews of the conversion facilities.

FOR FURTHER INFORMATION CONTACT: For further information on the long-term management and use of depleted uranium hexafluoride or to receive copies of the SA, initial ROD or this Amended ROD contact: Gary S. Hartman, U.S. Department of Energy, Oak Ridge Operations Office, Oak Ridge, Tennessee 37831, telephone (865) 576-0273, fax (865) 576-0746, e-mail: hartmangs@oro.doe.gov. For general information on the DOE NEPA process, contact Carol M. Borgstrom, Director, Office of NEPA Policy and Compliance, EH-42/Forrestal Building, U.S. Department of Energy, 1000 Independence Avenue, SW., Washington, DC 20585-0119, telephone (202) 586-4600, or leave a message at (800) 472-2756.

SUPPLEMENTARY INFORMATION:

I. Background

DUF6 results from the process of making uranium suitable for use as fuel for nuclear power plants or for military applications. The use of uranium in these applications requires increasing the proportion of the uranium-235 isotope found in natural uranium through an isotopic separation process called uranium enrichment. Gaseous diffusion is the enrichment process currently used in the United States. The DUF6 that is produced as a result of enrichment typically contains 0.2 percent to 0.4 percent uranium-235 and is stored as solid in large metal cylinders at the gaseous diffusion facilities. Large-scale uranium enrichment in the United States began as part of atomic bomb development during World War II. Uranium enrichment activities were subsequently continued under the U.S. Atomic Energy Commission and its successor agencies including DOE. Uranium enrichment was carried out at three locations: the K-25 Plant (now called the East Tennessee Technology Park or ETTP) at Oak Ridge, Tennessee, the Paducah Site in Kentucky and the Portsmouth Site in Ohio. DOE maintains approximately 700,000 metric tons (1 metric ton or mt = 1,000 kilograms, or approximately 2,205 pounds) of DUF6 in about 58,000 cylinders stored at the Paducah, Portsmouth, and ETTP sites. DUF6 is stored as a solid at all three sites in steel cylinders. Each cylinder holds approximately 9 to 12 metric tons of material. The cylinders usually are stacked two layers high in outdoor areas called “yards.” The Paducah site has approximately 36,200 DUF6 cylinders, the Portsmouth Site has approximately 16,100 DUF6 cylinders, and the ETTP has approximately 4,700 DUF6 cylinders.

Beginning in 1994, the DOE began work on a Programmatic Environmental Impact Statement (PEIS) to select a new long-term strategy for managing its inventory of DUF6. After it selected its long-term strategy in the PEIS, the DOE intended to conduct site-specific environmental review in accordance with NEPA to identify specific sites and technologies necessary to carry out the strategy.

In the DUF6 PEIS, the DOE analyzed a wide spectrum of alternatives for the conversion of DUF6 into products as well as alternatives for storage and disposal of the DUF6 and the products made from it. The Final DUF6 PEIS (DOE/EIS-0269) can be found on the World Wide Web at http://web.ead.anl.gov/uranium. As part of the analysis, DOE estimated the potential transportation impacts for each of the alternatives by rail and truck. Because the sites for the conversion facilities had not yet been selected, transportation impacts were evaluated for distances ranging from 155 to 3,100 miles, a range that anticipated shipments to Paducah or Portsmouth or a new conversion facility.

In the 1999 ROD, the DOE decided, among other things, that it would take the necessary steps to promptly convert its DUF6 inventory, that it would select the location of the actual conversion facilities in a project-specific EIS, and that it anticipated shipping approximately 4,700 cylinders from ETTP to the conversion facilities. On the issue of transportation, the ROD recognized that the primary impacts from transportation are related to accidents. If shipments were predominantly by truck, it was estimated that zero fatalities would be expected for the no-action alternative, approximately two fatalities for the long-term storage as DUF6 alternative, and up to four fatalities for each of the other alternatives. Shipment by rail would result in similar, but slightly smaller, impacts. Severe transportation accidents could also cause a release of radioactive material or chemicals from a shipment that could have adverse health effects. All alternatives, other than no action and long-term storage as UF6, could involve the transportation of relatively large quantities of chemicals such as ammonia and anhydrous hydrogen fluoride (HF) because their use would be required in the conversion process. Severe accidents involving these materials could result in releases that caused fatalities with HF posing the largest potential hazard. However, because of the low probability of such accidents, the maximum calculated risk for these accidents would be zero fatalities. If HF were to be neutralized to calcium fluoride (CaF2) at the conversion facility, the risks associated with its transportation would be eliminated. There would be risks associated with transportation of CaF2; however, these risks would be much less than those associated with transportation of HF.

Public Law 105-204, signed into law in July 1998, while the DUF6 PEIS was being prepared, directed the Secretary of Energy to submit to Congress a plan for the construction of plants at Paducah and Portsmouth to convert the DUF6 inventory. In the ROD, the DOE noted that it had submitted the plan as required and that it planned to review these proposed activities in subsequent NEPA review. DOE initiated its Conversion Plan on July 30, 1999, by announcing the availability of a draft Request for Proposals (RFP) for a contractor to design, construct, and operate DUF6 conversion facilities at the Paducah and Portsmouth sites.

On October 31, 2000, DOE issued a final RFP to procure a contractor to design, construct, and operate DUF6 conversion facilities at the Paducah and Portsmouth sites. The RFP stated that any conversion plants that would be built would have to convert the DUF6 to a more stable chemical form that would be suitable for either beneficial use or disposal. On September 18, 2001, the DOE published a Notice of Intent (NOI) in the Federal Register (66 FR 48123), announcing its intention to prepare a site-specific EIS for the proposed action to construct, operate, maintain, and decontaminate and decommission two DUF6 conversion facilities at Portsmouth, Ohio, and Paducah, Kentucky. As noted above, DOE originally planned to wait until it finished its site-specific EIS review before transporting any of the cylinders. That plan has changed with the advent of Public Law 107-206.

Public Law 107-206, the 2002 Supplemental Appropriations Act for Further Recovery From and Response to Terrorist Attacks on the United States, was signed by the President on August 2, 2002. This law required, in pertinent part, that within 30 days of its enactment DOE was required to award a contract for the scope of work described in the October 2000 RFP, including design, construction, and operation of a DUF6 conversion plant at each of the Department's sites at Paducah, Kentucky and Portsmouth, Ohio. In compliance with the law, on August 29, 2002, the DOE awarded a contract to Uranium Disposition Services, LLC (hereafter referred to as UDS), for construction and operation of the two mandated conversion facilities. The DOE also reevaluated the appropriate scope of its site-specific NEPA review and decided to prepare two separate EISs, one for the plant proposed for the Paducah site and a second for the Portsmouth site. This change in approach was announced in the Federal Register on April 28, 2003 (68 FR 22368).

Now that Congress has determined the locations for the conversion plants, DOE intends to begin shipping a portion of its DUF6 inventory, up to 1,700 DUF6 cylinders, from ETTP to Portsmouth beginning in 2003. Portsmouth was chosen based on the availability of storage capacity and the desire to balance cylinder inventory. It is important that DOE begin to ship DUF6 from ETTP in order to satisfy the terms of a Consent Order with the Tennessee Department of Environment and Conservation with respect to the management of DUF6 at the ETTP site. DOE has agreed to remove all known DUF6 cylinders from ETTP by 2009, in accordance with applicable regulatory requirements.

At the same time, DOE will continue with its site-specific NEPA review to determine the exact locations at the Portsmouth and Paducah sites for the conversion facilities and to analyze the impacts of shipping cylinders to these sites.

Basis for Decision

Pursuant to 10 CFR 1021.314(c), the Department has prepared a Supplement Analysis to determine whether or not a new or supplemental EIS is required for the proposed action. Specifically, the Supplement Analysis was prepared to determine whether the DUF6 PEIS sufficiently analyzed the transportation of up to 1,700 full DUF6 cylinders. On the basis of the Supplement Analysis, the estimated impacts from the proposed transportation campaign are less than or equal to those described in the PEIS for shipment of the entire ETTP cylinder inventory. Therefore, no new or supplemental EIS is necessary, and no further NEPA documentation is required.

As part of the DUF6 PEIS, the DOE analyzed the potential environmental impacts of transporting 4,683 full DUF6 cylinders from ETTP to an unspecified location within the continental United States at three different distances: 250 km (155 mi), 1,000 km (620 mi), and 5,000 km (3,100 mi). Transportation by both truck and rail was considered. The assessment considered risks during both routine (incident-free) transportation conditions as well as from accidents. Because destination sites for the cylinders were not known at the time, the impacts were estimated on the basis of representative national average route statistics. National average accident occurrence rates (accidents per million miles) and fatality rates (accident fatalities per million miles) were used for accident calculations for truck and rail shipments. Transportation of both Department of Transportation compliant and noncompliant cylinders was analyzed. The noncompliant cylinders were assumed to be transported in overpacks or have their contents transferred into compliant cylinders at ETTP before being transported off-site.

The potential receptors of exposure resulting from DUF6 transport considered in the PEIS analyses included workers who load and unload the cylinders, transportation crews, and members of the general public who live along the transportation routes, as well as members of the public who share the roads or rest stops with the DUF6 cylinder transport vehicles. The assessment also considered impacts to maximally exposed individuals for several very specific exposure scenarios, such as vehicle inspectors, persons in vehicles stopped next to a shipment, and a resident living along a site entrance or exit road. Both radiological and nonradiological, including chemical and vehicle related, impacts were estimated.

Similar to the assessment of DUF6 cylinders at ETTP, the DOE also analyzed the potential impacts from transporting the approximately 53,000 DUF6 cylinders under its management responsibility at its Portsmouth and Paducah sites to an unspecified location in the continental United States over similar distances.

The Supplement Analysis analyzes the health and environmental impacts of shipments of up to 1,700 DUF6 cylinders from ETTP to the Portsmouth site in 2003 through 2005. The result of this analysis and a separate report on transportation of DUF6 cylinders to Portsmouth and Paducah prepared by B. M. Biwer, et al.; Transportation Impact for Shipment of Uranium Hexafluoride (UF6) Cylinders From the East Tennessee Technology Park to the Portsmouth and Paducah Gaseous Diffusion Plants ANL EAD/TM-112, Argonne National Laboratory, Argonne, IL. October 2001 subsequent to the PEIS were then compared to the results in the DUF6 PEIS. The Supplement Analysis concluded as follows:

The estimated collective population risks for the proposed shipment of up to 1,700 DUF6 cylinders from ETTP to Portsmouth by truck are compared with the results from the Argonne report and the DUF6 PEIS in Table 6. In general, the collective risks for the proposed campaign are less than the projected risks presented in the PEIS for the shipment of ETTP DUF6 cylinders over 1,000 km and much less than the PEIS results for shipment over 5,000 km. The one exception is the risk estimate for vehicle emissions (i.e., exhaust emissions and fugitive dust), which is somewhat greater for the proposed shipment campaign than the estimates in the PEIS because of the use of a revised method of estimating such risks. However, the total number of estimated fatalities from all causes for the campaign is much less than one and well within the bounds of the PEIS analysis.

With respect to potential exposures of individual members of the public, the estimated doses and risks to maximally exposed individuals for the proposed shipments would be the same as the per-event results presented in the PEIS. The probability of being exposed to multiple shipments during the proposed campaign would be less than would be estimated for the PEIS because of the fewer number of shipments considered.

The maximum estimated consequences for severe accidents for the proposed shipments would also be the same as those reported in the PEIS. Because the number of shipments and the cumulative shipment distances would be considerably less than those in the PEIS, the probability of such an accident's occurring also would be less. Thus, the overall risk posed by such a severe accident, which is defined as the product of the accident consequence and the estimated probability, for the proposed campaign would be less than for the shipments considered in the PEIS.

Potential impacts at ETTP from the preparation of the cylinders for shipment for the proposed campaign would also be less than those reported in the PEIS. The PEIS considered preparation of up to 2,342 compliant cylinders for shipment, compared with 1,700 cylinders being considered in this SA.

Decision

Based on the Supplement Analysis, the DOE has concluded that the estimated impacts for the proposed transport of up to 1,700 ETTP DUF6 cylinders are less than or equal to those analyzed in the PEIS for shipment of the entire ETTP cylinder inventory. Therefore, no supplemental EIS is necessary, and no further NEPA documentation is required. The DOE hereby amends the ROD for the Final Programmatic Environmental Impact Statement for Alternative Strategies for the Long-Term Management and Use of Depleted Uranium Hexaflouride issued in August 1999 (64 FR 43358; August 10, 1999). The DOE has now decided to transfer up to 1,700 of the approximately 4,700 cylinders containing DUF6 from the East Tennessee Technology Park (ETTP) in Oak Ridge, Tennessee, to its storage facilities at DOE's enrichment facility at Portsmouth, Ohio, between fiscal years 2003 and 2005. Portsmouth was selected based on the availability of storage capacity and the desire to balance cylinder inventory. The DOE's site-specific NEPA review will continue as before.

Issued in Washington, DC, this 28th day of August, 2003.
Jessie Hill Roberson,
Assistant Secretary for Environmental Management.

[FR Doc. 03-23167 Filed 9-10-03; 8:45 am]

BILLING CODE 6450-01-P